DEPARTMENT OF ENERGY

Federal Energy Regulatory Commission

[Docket No. CP15-93-000; Docket No. CP15-94-000; Docket No. CP15-96-000]

Rover Pipeline, LLC; Panhandle Eastern Pipe Line Company, LP; Trunkline Gas Company, LLC; Notice of Availability of the Final Environmental Impact Statement for the Proposed Rover Pipeline, Panhandle Backhaul, and Trunkline Backhaul Projects

The staff of the Federal Energy Regulatory Commission (FERC or Commission) has prepared a final environmental impact statement (EIS) for the Rover Pipeline, Panhandle Backhaul, and Trunkline Backhaul Projects (Projects), proposed by Rover Pipeline, LLC (Rover), Panhandle Eastern Pipe Line Company, LP (Panhandle), and Trunkline Gas Company, LLC (Trunkline), respectively, in the above-referenced dockets. Rover requests authorization to construct, operate, and maintain certain natural gas pipeline facilities to transport about 3.25 billion cubic feet per day (Bcf/d) of stranded natural gas from Marcellus and Utica production areas in West Virginia, Pennsylvania, and Ohio to markets in the United States and Canada. Panhandle requests authorization to modify existing facilities and install an interconnection with Rover in Defiance County, Ohio to accommodate 0.75 Bcf/d of east-to-west firm transportation service. Trunkline would modify existing facilities, including piping at the existing Panhandle-Trunkline Interconnect in Douglas County, Illinois to provide 0.75 Bcf/d of north-to-south firm transportation service.

The final EIS assesses the potential environmental effects of the construction and operation of the Projects in accordance with the requirements of the National Environmental Policy Act (NEPA). The FERC staff concludes that approval of the Projects would have some adverse and significant environmental impacts; however, these impacts would be reduced to acceptable levels with the implementation of Rover's, Panhandle's, and Trunkline's proposed mitigation and the additional measures recommended by staff in the final EIS.

The U.S. Environmental Protection Agency (EPA), the U.S. Army Corps of Engineers (COE), the U.S. Fish and Wildlife Service (FWS), the Ohio Environmental Protection Agency (OHEPA), and the West Virginia Department of Environmental Protection (WVDEP) participated as cooperating agencies in the preparation of the EIS. Cooperating agencies have jurisdiction by law or special expertise with respect to resources potentially affected by the proposal and participate in the NEPA analysis. Although the cooperating agencies provided input to the conclusions and recommendations presented in the final EIS, the agencies will present their own conclusions and recommendations in their respective Records of Decision for the Projects.

The final EIS addresses the potential environmental effects of the construction and operation of the following project facilities:

• 510.3 miles of new 24- to 42-inch-diameter natural gas pipeline and appurtenant facilities that include 10 new compressor stations, 21 new meter stations, 6 new tie-ins, 78 mainline valves, and 11 pig launcher and receiver facilities.¹

¹ A pig is an internal tool that can be used to clean and dry a pipeline and/or to inspect it for damage or corrosion.

• modifications by Panhandle at four existing compressor stations, one interconnection, and three valve sites; and

• modifications by Trunkline at four existing compressor stations and one meter station.

The FERC staff mailed copies of the final EIS to federal, state, and local government representatives and agencies; elected officials; environmental and public interest groups; Native American tribes; potentially affected landowners and other interested individuals and groups; newspapers and libraries in the project area; and parties to this proceeding. Paper copy versions of this EIS were mailed to those specifically requesting them; all others received a CD version. In addition, the final EIS is available for public viewing on the FERC's Web site (www.ferc.gov) using the eLibrary link. A limited number of copies are available for distribution and public inspection at: Federal Energy Regulatory Commission, Public Reference Room, 888 First Street NE., Room 2A, Washington, DC 20426, (202) 502-8371.

Questions?

Additional information about the project is available from the Commission's Office of External Affairs, at (866) 208-FERC, or on the FERC Web site (www.ferc.gov) using the eLibrary link. Click on the eLibrary link, click on “General Search,” and enter the docket number excluding the last three digits in the Docket Number field (i.e., CP15-93, CP15-94, or CP15-96). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: July 29, 2016.
Kimberly D. Bose,
Secretary.

[FR Doc. 2016-18491 Filed 8-3-16; 8:45 am]

BILLING CODE 6717-01-P